NUCLEAR REGULATORY COMMISSION

[Docket No. 50-395]

South Carolina Electric & Gas Company; Notice of Withdrawal of Application for Amendment to Facility Operating License

The U.S. Nuclear Regulatory Commission (the Commission) has granted the request of South Carolina Electric & Gas Company (the licensee) to withdraw its June 27, 2002, application for proposed amendment to Facility Operating License No. NPF-12 for the Virgil C. Summer Nuclear Station, Unit No. 1, located in Fairfield County, South Carolina.

The proposed amendment would have added an Allowed Outage Time to Table 3.3-3, Engineered Safety Features Actuation System Instrumentation, Action 16.

The Commission had previously issued a Notice of Consideration of Issuance of Amendment published in the Federal Register on July 23, 2002 (67 FR 48221). However, by letter dated February 25, 2003, the licensee withdrew the proposed change.

For further details with respect to this action, see the application for amendment dated June 27, 2002, and the licensee's letter dated February 25, 2003, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 18th day of March 2003.
For the Nuclear Regulatory Commission.
Karen R. Cotton,
Project Manager, Section 1, Project Directorate ll, Division of Licensing Project Management, Office of Nuclear Reactor Regulation.

[FR Doc. 03-6951 Filed 3-21-03; 8:45 am]

BILLING CODE 7590-01-P